DEPARTMENT OF LABOR

Office of the Secretary; Submission for OMB Review; Comment Request

February 22, 2000.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation for BLS, ETA, PWBA, and OASAM contact Karin Kurz ((202) 219-5096 ext. 159 or by E-mail to Kurz-Karin@dol.gov). To obtain documentation for ESA, MSHA, OSHA, and VETS contact Darrin King ((202) 219-5096 ext. 151 or by E-Mail to King-Darrin@dol.gov).

Comments should be sent to Office of Information and Regulatory Affairs, Attn: OMB Desk Officer for BLS, DM, ESA, ETA, MSHA, OSHA, PWBA, or VETS, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration (OSHA); Labor.

Title: Personal Protective Equipment for General Industry (29 CFR part 1910).

OMB Number: 1218-0205.

Frequency: Varies (on occasion, annually).

Affected Public: Business or other for-profit; Not-for-profit institutions; Federal. Government; State, Local or Tribal Government.

Number of Respondents: 169,215.

Estimated Time Per respondent: Varies from five minutes (0.08 hour) to 29 hours.

Total Burden Hours: 608,871.

Total Annualized capital/startup costs: $0.

Total annual costs (operating/maintaining systems or purchasing services): $0.

Description: The Occupational Safety and Health Act of 1970 (the Act) authorizes information collection by employers as necessary or appropriate for enforcement of the Act or for developing information regarding the causes and prevention of occupational injuries, illnesses, and accidents. (29 U.S.C. 657.) Paragraph 1910.132(d) of the PPE standard requires employers to perform a hazard assessment of the workplace to determine if personal protective equipment is necessary. The hazard assessment is an important part of the process to assure that the PPE selected is appropriate for the hazards present in the workplace. Paragraph (d)(2) requires employers to certify that they performed a hazard assessment. The signed certification must include the date of the hazard assessment and the identification of the workplace evaluated (area or location).

Paragraph (f)(4) of 1910.132 requires employers to certify that employees received and understood PPE training. The training certification must include the name of the employee(s) trained, the date of training, and the subject of the certification (i.e., a statement identifying the document as a certification of training in the use of PPE).

The hazard assessment assures that the PPE selected is appropriate for the hazards present in the workplace. The certification record required with the hazard assessment verifies that the employer conducted the hazard assessment. The training certification verifies that employees received the necessary training involving the use of PPE. OSHA compliance officers may require employers to disclose the certification records during an Agency inspection

Agency: Occupational Safety and Health Administration (OSHA); Labor.

Title: Personal Protective Equipment for Shipyard Employment (20 CFR at 1915, Subpart I).

OMB Number: 1218-0215.

Frequency: On Occasion.

Affected Public: Business or other for-profit; Federal Government; State, Local or Tribal Government.

Number of Respondents: 500.

Estimated Time Per respondent: Varies from 5 minutes (0.08 hour) to 45 minutes (0.75 hour).

Total Burden Hours: 707.

Total Annualized capital/startup costs: $0.

Total annual costs (operating/maintaining systems or purchasing services): $0.

Description: Employers are required to assess their work activity to determine whether there are hazards present, or likely to be present, which necessitate the employee's use of PPE. Employers must verify that the required occupational hazard assessment has been performed through a document that contains the following information: occupation, the date(s) of the hazard assessment, and the name of the person performing the hazard assessment.

Ira L. Mills,
Departmental Clearance Officer.

[FR Doc. 00-4581 Filed 2-25-00; 8:45 am]

BILLING CODE 4510-26-M